ENVIRONMENTAL PROTECTION AGENCY

[EPA-HQ-OA-2024-0043; FRL 11745-01-OA]

National Environmental Youth Advisory Council; Notification of Public Meeting

AGENCY: Environmental Protection Agency (EPA).

ACTION: Notice of meeting.

SUMMARY: Pursuant to the Federal Advisory Committee Act (FACA), the U.S. Environmental Protection Agency (EPA) hereby provides notice that the National Environmental Youth Advisory Council (NEYAC) will meet on the date and time described below. The meeting is open to the public. For additional information about registering to attend the meeting or to provide a public comment, see the “Public Participation” heading of the SUPPLEMENTARY INFORMATION section of this document.

DATES: The NEYAC will convene a virtual and in-person public meeting on Wednesday, February 28, and Thursday, February 29, 2024. A public comment period relevant to the NEYAC will be considered by the NEYAC at the meeting on Wednesday, February 28, 2024 (see SUPPLEMENTARY INFORMATION). Members of the public who wish to participate during the public comment period must register by 11:59 p.m., Eastern Time, Wednesday, February 21, 2024.

ADDRESSES: You may send comments, identified by Docket ID No. EPA-HQ-OA-2024-0043, by any of the following methods:

• Federal eRulemaking Portal: https://www.regulations.gov/ (our preferred method). Follow the online instructions for submitting comments.

• Email: neyac@epa.gov. Include Docket ID No. EPA-HQ-OA-2024-0043 in the subject line of the message.

Instructions: All submissions received must include the Docket ID No. for this public meeting. Comments received may be posted without change to https://www.regulations.gov/, including any personal information provided. Comments must be submitted by 11:59 p.m. Eastern Time on Thursday, March 14, 2024. For detailed instructions on sending comments and additional information on the rulemaking process, see the “Public Participation” heading of the SUPPLEMENTARY INFORMATION section of this document.

The virtual and in-person public meeting will be held at EPA Headquarters located at 1200 Pennsylvania Avenue NW, Washington, DC 20460. The meeting will convene on Wednesday, February 28, from 9:00 a.m. to 4:00 p.m. EST, and Thursday, February 29, from 9:00 a.m. to 12:30 p.m. EST. Refer to the SUPPLEMENTARY INFORMATION section below for additional information.

Because this public meeting is being held at a U.S. government facility, individuals planning to attend the public meeting should be prepared to show valid picture identification to the security staff to gain access to the meeting room. Please note that the REAL ID Act, passed by Congress in 2005, established new requirements for entering federal facilities. For purposes of the REAL ID Act, EPA will accept government-issued IDs, including drivers' licenses, from the District of Columbia and all states and territories except from American Samoa. If your identification is issued by American Samoa, you must present an additional form of identification to enter the federal building where the public hearing will be held. Acceptable alternative forms of identification include Federal employee badges, passports, enhanced driver's licenses, and military identification cards. For additional information for the status of your state regarding REAL ID, go to: https://www.dhs.gov/real-id-enforcement-brieffrequently-asked-questions. Any objects brought into the building need to fit through the security screening system, such as a purse, laptop bag, or small backpack. Demonstrations will not be allowed on Federal property for security reasons.

FOR FURTHER INFORMATION CONTACT: Carissa Cyran, NEYAC Designated Federal Officer (1702A), Environmental Protection Agency, 1200 Pennsylvania Ave. NW, Washington, DC 20460; telephone number: (202) 566-1353; email address: cyran.carissa@epa.gov. Additional information about the NEYAC is available at https://www.epa.gov/faca/national-environmental-youth-advisory-council-neyac.

SUPPLEMENTARY INFORMATION: The Charter of the NEYAC (available at https://www.epa.gov/faca/national-environmental-youth-advisory-council-neyac) states that the advisory council will provide independent advice and recommendations to the Administrator of EPA on how to increase the agency's efforts to address a range of environmental issues as they relate to youth, with an emphasis on youth below 29 years of age. The NEYAC will provide a critical perspective on how the impacts of climate change and other environmental harms affects youth.

I. Public Participation

Individual registration is required for the public meeting. No two individuals can share the same registration link. Information on how to register is located at https://www.epa.gov/faca/national-environmental-youth-advisory-council-neyac. Registration for the meeting is available until the scheduled end time of the meeting. Registration to speak during the public comment period will close at 11:59 p.m., ET, on Wednesday, February 21, 2024. When registering, please provide your name, organization, city and state, and email address for follow up. Please also indicate whether you would like to provide public comment during the meeting, or if you are submitting written comments.

A. Written Comments

Submit your comments, identified by Docket ID No. EPA-HQ-OA-2024-0043, at https://www.regulations.gov (our preferred method), or the other methods identified in the ADDRESSES section. Comments must be submitted by 11:59 p.m. Eastern Time on Thursday, March 14, 2024. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Participation Virtually and In-Person Public Meeting

EPA will begin pre-registering speakers for the public meeting upon publication of this document in the Federal Register. To register to speak virtually or in-person, please use the online registration form available at https://www.epa.gov/faca/national-environmental-youth-advisory-council-neyac. The last day to pre-register to speak at the public meeting will be at 11:59 p.m., ET, on Wednesday, February 21, 2024.

EPA will make every effort to follow the schedule as closely as possible on the day of the public meeting; however, please plan for the meeting to run either ahead of schedule or behind schedule.

Individuals or groups making remarks during the public comment period will be limited to two (2)-three (3) minutes. Please be prepared to briefly describe your issue and your recommendation relevant to the current charges, topics, and questions under consideration by the NEYAC. EPA also recommends submitting the text of your oral comments as written comments to the rulemaking docket.

Written statements and supporting information submitted during the comment period will be considered with the same weight as oral comments and supporting information presented at the public meeting.

Please note that any updates made to any aspect of the public meeting are posted online at https://www.epa.gov/faca/national-environmental-youth-advisory-council-neyac. While EPA expects the public meeting to go forward as set forth above, please monitor our website. EPA does not intend to publish a document in the Federal Register announcing updates.

C. Information About Services for Individuals With Disabilities or Requiring English Language Translation Assistance

To request special accommodations for a disability or other assistance, please submit your request at least five (5) working days prior to the meeting to give EPA sufficient time to process your request. All requests should be sent to the email listed in the FOR FURTHER INFORMATION CONTACT section.

Kathryn Avivah Jakob,
Director, Office of Public Engagement, Office of Public Engagement and Environmental Education, Office of the Administrator.

[FR Doc. 2024-02889 Filed 2-12-24; 8:45 am]

BILLING CODE 6560-50-P